FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than July 6, 2001.

A. Federal Reserve Bank of Atlanta (Cynthia C. Goodwin, Vice President) 104 Marietta Street, N.W., Atlanta, Georgia 30303-2713:

1. SunTrust Banks, Inc., Atlanta, Georgia; to acquire at least 50.1 percent of the voting shares of, and thereby merge with Wachovia Corporation, Winston-Salem, North Carolina, and thereby indirectly acquire voting shares of Wachovia Bank, N.A., Winston-Salem, North Carolina; The First National Bank of Atlanta (d/b/a) Wachovia Bank Card Services, N.A., New Castle, Delaware; and Republic Security Bank, West Palm Beach, Florida.

In connection with this application, Applicant also has applied to acquire Atlantic Savings Bank, FSB, Hilton Head, South Carolina, and thereby engage in operating a savings association, pursuant to § 225.28(b)(4)(ii) of Regulation Y.

B. Federal Reserve Bank of Chicago (Phillip Jackson, Applications Officer) 230 South LaSalle Street, Chicago, Illinois 60690-1414:

1. American Bank Holdings, LLC, Cedar Falls, Iowa; to become a bank holding company by acquiring 100 percent of the voting shares of American Bancorporation, Cedar Falls, Iowa, and thereby indirectly acquire voting shares of Cedar Valley Holding Company, Cedar Falls, Iowa (formerly The Newburg Corporation, Saint Ansgar, Iowa), and Cedar Valley State Bank, Saint Ansgar, Iowa.

Board of Governors of the Federal Reserve System, June 5, 2001.
Robert deV. Frierson,
Associate Secretary of the Board.

[FR Doc. 01-14545 Filed 6-8-01; 8:45 am]

BILLING CODE 6210-01-S